FEDERAL COMMUNICATIONS COMMISSION

[Report No. AUC-02-47-B (Auction No. 47); DA 02-2797]

Revised Inventory and Auction Start Date for Closed Auction of Licenses for Cellular Unserved Service Areas; Comment Sought on Reserve Prices or Minimum Opening Bids and Other Auction Procedures

AGENCY: Federal Communications Commission.

ACTION: Notice.

SUMMARY: This document revises the starting date for Auction No. 47, revises the auction inventory to include three additional licenses, and seeks comment on procedural issues related to the auction of these additional licenses. This document revises the auction start date to provide additional time for bidder preparation and planning.

DATES: Comments are due on or before November 1, 2002, and reply comments are due on or before November 8, 2002.

ADDRESSES: All comments and reply comments must be filed electronically to the following address: auction47@fcc.gov.

FOR FURTHER INFORMATION CONTACT: For legal questions: Kenneth Burnley (202) 418-0660. For general auction questions: Jeff Crooks (202) 418-0660 or Lisa Stover (717) 338-2888. For service rule questions: Amal Abdallah, Jay O'Connor or Mike Kleeb at (202) 418-0620.

SUPPLEMENTARY INFORMATION: This is a summary of the Auction No. 47 Revised License Inventory and Auction Start Date Public Notice released October 25, 2002. The complete text of the Auction No. 47 Revised License Inventory and Auction Start Date Public Notice, including the attachment, is available for public inspection and copying during regular business hours at the FCC Reference Information Center, Portals II, 445 12th Street, SW., Room CY-B402, Washington, DC 20554. The Auction No. 47 Revised License Inventory and Auction Start Date Public Notice may also be purchased from the Commission's duplicating contractor, Qualex International, Portals II, 445 12th Street, SW., Room CY-B402, Washington, DC 20554, telephone (202) 863-2893, facsimile (202) 863-2898, or via e-mail to qualexint@aol.com.

I. Background

1. In the Auction No. 47 Comment Public Notice, the Wireless Telecommunications Bureau (“Bureau”) announced the auction of four licenses to provide cellular service in four unserved areas (“Auction No. 47”) scheduled to commence on December 4, 2002.¹ By the Auction No. 47 Revised License Inventory and Auction Start Date Public Notice the Bureau revises the starting date for Auction No. 47 to February 12, 2003 and revises the auction inventory to include three additional licenses in the Cellular Radiotelephone Service. The additional spectrum to be auctioned is the subject of pending mutually exclusive long-form applications for three additional unserved area licenses. One additional license will be auctioned for each of the three additional mutually exclusive applicant groups (“MX Groups”). The three additional licenses that will be offered in Auction No. 47 and three additional MX Groups are identified in Attachment A of the Auction No. 47 Revised License Inventory and Auction Start Date Public Notice. The Auction No. 47 Revised License Inventory and Auction Start Date Public Notice seeks comment on procedural issues related to the auction of these licenses. The auction start date has been revised to provide additional time for bidder preparation and planning.

¹ In addition, procedures were proposed in the Auction No. 47 Comment Public Notice with actual notice and an opportunity to comment provided to all of the parties in this closed auction.

II. Auction Structure

A. Single-Round Sealed-Bid Auction Design

2. In the Auction No. 47 Comment Public Notice, the Bureau proposed to award licenses included in Auction No. 47 in a single-round sealed-bid auction. This methodology offers every license for bid at the same time with bidders placing one bid per license. For the same reasons the Bureau proposed to use the single-round sealed-bid format in the Auction No. 47 Comment Public Notice, it proposes to use this format for the additional licenses. The Bureau seeks comment on this proposal. It will consider comments received in response to the Auction No. 47 Comment Public Notice as well as comments filed in response to the Auction No. 47 Revised License Inventory and Auction Start Date Public Notice in considering whether to use a single-round sealed-bid auction design as proposed.

III. Reserve Price or Minimum Opening Bid

3. For the additional licenses offered in Auction No. 47, the Bureau proposes to utilize the same minimum opening bid of $500 per license as proposed in the Auction No. 47 Comment Public Notice. A complete list of all licenses to be offered in Auction No. 47 and their proposed minimum opening bids is provided in Attachment A of the Auction No. 47 Revised License Inventory and Auction Start Date Public Notice. Comment is sought on this proposal. Alternatively, comment is sought on whether, consistent with the Balanced Budget Act of 1997, the public interest would be served by having no minimum opening bid or reserve price.

IV. Upfront Payments and Initial Maximum Eligibility for Each Bidder

4. For the additional licenses in Auction No. 47, the Bureau proposes to use the same upfront payment of $500 per license as previously proposed for the cellular unserved service area licenses in the Auction No. 47 Comment Public Notice. A complete list of all licenses to be offered in Auction No. 47, including their related geographic service areas and upfront payments, is included in Attachment A of the Auction No. 47 Revised License Inventory and Auction Start Date Public Notice. The Bureau seeks comment on this proposal.

5. The Bureau further proposes that the amount of the upfront payment submitted by a bidder will determine the number of bidding units on which a bidder may place bids. This limit is a bidder's “maximum eligibility.” This number does not reflect the maximum bid that can be placed on each license. Rather, a bidder may place bids on any number of licenses as long as the sum of the bidding units associated with those licenses does not exceed its maximum eligibility. Thus, in calculating the upfront payment amount, an applicant must determine the maximum number of bidding units it may wish to bid on, and submit an upfront payment covering that number of bidding units. The Bureau seeks comment on this proposal.

V. Other Auction Procedural Issues

6. In the Auction No. 47 Comment Public Notice, the Bureau also set forth and sought comment on the following proposals relating to auction structure and bidding procedures: (i) Information relating to auction delay, suspension or cancellation; (ii) round structure; (iii) minimum acceptable bids; (iv) winning bids and tied bids; and (v) information regarding bid withdrawal and bid removal. For the additional licenses in Auction No. 47, the Bureau proposes to utilize the same auction structure and bidding procedures proposed in the Auction No. 47 Comment Public Notice. The Bureau seeks comment on these proposals as they relate to the three additional licenses included in Attachment A of the Auction No. 47 Revised License Inventory and Auction Start Date Public Notice.

VI. Conclusion

7. Comments are due on or before November 1, 2002, and reply comments are due on or before November 8, 2002. The Bureau requires that all comments and reply comments be filed electronically. Comments and reply comments must be sent by electronic mail to the following address: auction47@fcc.gov. The electronic mail containing the comments or reply comments must include a subject or caption referring to Auction No. 47 Comments. The Bureau requests that parties format any attachments to electronic mail as Adobe® Acrobat® (pdf) or Microsoft® Word documents. Copies of comments and reply comments will be available for public inspection during regular business hours in the FCC Public Reference Room, Room CY-A257, 445 12th Street, SW., Washington, DC 20554. In addition, the Bureau requests that commenters fax a courtesy copy of their comments and reply comments to the attention of Kathryn Garland at (717) 338-2850.

8. This proceeding has been designated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in § 1.1206(b) of the Commission's rules.

Federal Communications Commission.
Margaret Wiener,
Chief, Auctions and Industry Analysis Division, WTB.

[FR Doc. 02-28943 Filed 11-14-02; 8:45 am]

BILLING CODE 6712-01-P